DEPARTMENT OF STATE

[Public Notice 5164]

Notice of Meeting; Meeting on Possible Mandate Expansion for the International Mobile Satellite Organization (IMSO)

The Department of State announces a meeting to hear public views on issues related to the possible expansion of the mandate of the International Mobile Satellite Organization (IMSO), to include new oversight and regulatory responsibilities that may affect U.S. and non-U.S. mobile satellite services providers. The IMSO is convening an Extraordinary Assembly of Parties December 13-18, 2005, for the member governments to consider and act on proposals to amend the intergovernmental IMSO Convention to expand the IMSO's oversight authority. Presently, this authority applies exclusively to Inmarsat plc. Proposals have been made to extend oversight to all mobile satellite service providers, specifically in the context of provision of capacity for the Global Maritime Distress and Safety System. Additionally, discussion has emerged about possible roles the IMSO may play in the creation of a new vessel “Long Range Identification and Tracking” (LRIT) system being developed to enhance maritime security, and suggestions that “the organization may assume any other functions or duties” upon request and approval. Prior to the Assembly meeting, the IMSO Advisory Committee will meet October 4-5, 2005, and the International Maritime Organization's Maritime Safety Committee will have an intercessional meeting to discuss LRIT October 17-19, 2005. Both of these meetings may impact proposals and decisions of the IMSO Assembly and, accordingly, public views and advice are being sought well in advance of the IMSO Assembly.

Background documentation may be found on the Department's Web site: http://www.state.gov/e/eb/cip/imso.The Department of State's public meeting will take place on Thursday, September 15, 2005 from 2 p.m. to 5 p.m. at the Department's Harry S. Truman headquarters building, 2201 C St. NW., Washington, DC. (Please note that due to security considerations, parking in the vicinity of the building is extremely limited.) Members of the public are encouraged to participate and join in discussions, subject to the discretion of the moderator. Persons wishing to make formal presentations, should provide advance notice to the contacts below. Time may be limited. Persons planning to attend this meeting should send the following data by fax to (202) 647-5957 or e-mail to lambrh@state.gov not later than 72 hours before the meeting: (1) Name of the meeting, (2) name of participant, (3) organizational affiliation, (4) date of birth, (5) citizenship, and (6) either Social Security or Passport number. A valid government issued photo ID must be presented to gain entrance to the Department of State.

Dated: August 24, 2005.
Richard Lamb,
Foreign Affairs Officer, International Communications and Information Policy, Department of State.

[FR Doc. 05-17745 Filed 9-6-05; 8:45 am]

BILLING CODE 4710-07-P